DEPARTMENT OF ENERGY

Federal Energy Regulatory Commission

18 CFR Parts 35, 131, 154, 157, 250, 281, 284, 300, 341, 344, 346, 347, 348, 375, and 385

[Docket No. RM01-5-000]

Electronic Tariff Filings

April 29, 2005.

AGENCY: Federal Energy Regulatory Commission, DOE.

ACTION: Notice of technical conference, comment deadline, and electronic format manual.

SUMMARY: The Federal Energy Regulatory Commission is establishing August 1, 2005 as the deadline for comments on the regulatory text changes to accommodate electronic filing proposed in the Commission's July 8, 2004 Notice of Proposed Rulemaking (69 FR 43929) (NOPR). The Commission also is holding a technical conference on May 24, 2005 to discuss the computer software to be used in compliance with the Notice of Proposed Rulemaking. The date for comments on the software and other related aspects of the NOPR's proposal will be established in a subsequent notice. Additionally, the Commission is making available on its Web-site a draft electronic format manual for electronic tariff and rate filings to be made in conformance with the NOPR.

DATES: May 24, 2005 technical conference. August 1, 2005 for comments on the proposed regulatory text.

ADDRESSES: Comments may be filed electronically via the eFiling link on the Commission's Web site at http://www.ferc.gov. Commenters unable to file comments electronically must send an original and 14 copies of their comments to: Federal Energy Regulatory Commission, Office of the Secretary, 888 First Street NE., Washington, DC 20426. Refer to the Comment Procedures section of the preamble of the Notice of Proposed Rulemaking for additional information on how to file comments.

FOR FURTHER INFORMATION CONTACT:

H. Keith Pierce (Technical Information), Office of Markets, Tariffs, and Rates, Federal Energy Regulatory Commission, 888 First Street, NE., Washington, DC 20426, (202) 502-8525, Keith.Pierce@ferc.gov.

Jamie Chabinsky (Legal Information), Office of the General Counsel, Federal Energy Regulatory Commission, 888 First Street, NE., Washington, DC 20426, (202) 502-6040, Jamie.Chabinsky@ferc.gov.

Bolton Pierce (Software Information), Office of Markets, Tariffs, and Rates, Federal Energy Regulatory Commission, 888 First Street, NE., Washington, DC 20426, (202) 502-8803, Bolton.Pierce@ferc.gov.

SUPPLEMENTARY INFORMATION:

Notice of Technical Conference, Comment Deadline and Electronic Format Manual

Take notice that on August 1, 2005, comments will be due on the regulatory text changes proposed in the Federal Energy Regulatory Commission's (Commission) Notice of Proposed Rulemaking (NOPR) requiring electronic tariff filings. Electronic Tariff Filings, Notice of Proposed Rulemaking, 69 FR 43929 (July 23, 2004) FERC Stats. & Regs., Proposed Regulations ¶ 32,575 (July 8, 2004). Also, on May 24, 2005, Commission staff will host a technical conference to discuss the electronic tariff and rate case filing software that has been developed by the Commission. The software is available to download and test at http://www.ferc.gov/docs-filing/etariff.asp. Additionally, the Commission is making available on its Web site (http://www.ferc.gov) a draft electronic format manual for electronic tariff and rate filings to be made in conformance with the NOPR. The link for the manual can be found at http://www.ferc.gov/docs-filing/etariff/electronic-manual.pdf.

Because of the large number of regulatory text changes proposed in the NOPR, an earlier comment date on regulatory text changes is necessary in order to expedite the implementation of electronic filing. The date for comments specific to the computer software to be used for future electronic tariff and rate filings and other aspects of the proposal made in the NOPR will be established through a notice issued at a later date after the technical conference.

The technical conference will be held on May 24, 2005 from 9 a.m. until 4 p.m. (EDT). The conference will be held at the Federal Energy Regulatory Commission, 888 First Street, NE., Washington, DC 20426 in Hearing Room 1.

The agenda shall include a demonstration of the electronic tariff filing software. Topics to be discussed include the scope of tariff filings to be filed electronically, the use of sections, tariff text format, meta data, the electronic tariff filing process and confidential information.

The Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

The conference is open to the public to attend, and pre-registration is not required.

FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact Keith Pierce, Office of Markets, Tariffs and Rates at (202) 502-8525 or Keith.Pierce@ferc.gov.

Linda Mitry,
Deputy Secretary.

[FR Doc. 05-9072 Filed 5-5-05; 8:45 am]

BILLING CODE 6717-01-P